DEPARTMENT OF TRANSPORTATION

Coast Guard

[USCG-2002-14078]

Great Lakes Pilotage Advisory Committee

AGENCY: Coast Guard, (DOT).

ACTION: Notice of meetings.

SUMMARY: The Great Lakes Pilotage Advisory Committee (GLPAC) and its Subcommittee on Technology will meet to discuss various issues relating to pilotage on the Great Lakes. The meeting will be open to the public.

DATES: The Subcommittee will meet on Thursday, January 30, 2003, from 1 p.m. to 3 p.m. GLPAC will meet on Thursday, January 30, 2003, from 3 p.m. to 5:30 p.m. and on Friday, January 31, 2003, from 8:30 a.m. to 4 p.m. The annual public workshop will be held from 2 to 4 p.m. as part of the GLPAC meeting. The meeting may close early if all business is finished. Written material and requests to make oral presentations should reach the Coast Guard on or before January 24, 2003. Requests to have a copy of your material distributed to each member of the committee should reach the Coast Guard on or before January 24, 2003.

ADDRESSES: GLPAC will meet in Room B-1 of the Anthony J. Celebrezze Federal Building at 1240 East Ninth Street, Cleveland, OH 44199-2060. Send written material and requests to make oral presentations to Margie Hegy, Commandant (G-MW), U.S. Coast Guard Headquarters, 2100 Second Street SW., Washington, DC 20593-0001. This notice is available on the Internet at http://dms.dot.gov.

FOR FURTHER INFORMATION CONTACT: Margie Hegy, Executive Director of GLPAC, telephone (202) 267-0415, fax (202) 267-4700.

SUPPLEMENTARY INFORMATION: Notice of the meeting is given under the Federal Advisory Committee Act, 5 U.S.C. App. 2.

Agenda of Meetings

Subcommittee on Technology. The agenda includes the following:

(1) Leasing versus purchasing of portable piloting units (PPU's).

(2) Wireless internet connection as a solution to cell phone dead zones in the Great Lakes.

Great Lakes Pilotage Advisory Committee (GLPAC). The agenda includes the following:

(1) Swearing in new members

(2) Report on Bridge Hour Study.

(3) Report on Pilotage Office Relocation Study.

(4) Progress report from Technology Subcommittee.

(5) U.S. Army Corp of Engineers' Great Lakes Navigation Study from the ports' perspective.

(6) New Ratemaking Methodology.

(7) Discussion and selection of 7th GLPAC Member to recommend to the Secretary for appointment.

(8) American Great Lakes Ports Association Proposal for the “Reorganization and Modernization of U.S. Pilotage Services on the Great Lakes”.

(9) Open workshop for public comments/questions on the Coast Guard's Great Lakes Pilotage Program.

Procedural

The meetings are open to the public. Please note that the meetings may close early if all business is finished. At the Chair's discretion, members of the public may make oral presentations during the meeting. If you would like to make an oral presentation at the meeting, please notify the Executive Director no later than January 24, 2003. Written material for distribution at the meeting should reach the Coast Guard no later than January 24, 2003. If you would like a copy of your material distributed to each member of the committee in advance of the meeting, please submit 10 copies to Margie Hegy at the address in the ADDRESSES section no later than January 20, 2003.

Information on Services for Individuals with Disabilities

For information on facilities or services for individuals with disabilities or to request special assistance at the meeting, contact the Executive Director as soon as possible.

Dated: December 20, 2002.
Paul J. Pluta,
Rear Admiral, U.S. Coast Guard, Assistant Commandant for Marine Safety, Security and Environmental Protection.

[FR Doc. 02-32725 Filed 12-26-02; 8:45 am]

BILLING CODE 4910-15-P